DEPARTMENT OF HOUSING AND URBAN DEVELOPMENT

[Docket No. FR-5603-N-85]

Multifamily Housing Mortgage and Housing Assistance Restructuring Program (Mark to Market)

AGENCY: Office of the Chief Information Officer, HUD.

ACTION: Notice.

SUMMARY: The proposed information collection requirement described below has been submitted to the Office of Management and Budget (OMB) for review, as required by the Paperwork Reduction Act. The Department is soliciting public comments on the subject proposal.

The Mark to Market Program is authorized under the Multifamily Assisted Housing Reform and Affordability Act of 1997 as extended by the Market to Market Extension Act of 2001. The information collection is required and will be used to determine the eligibility of FHA insured multifamily properties for participation in the Mark to Market program and the terms on which such participation should occur as well as to process eligible properties from acceptance into the program through closing of the mortgage restructure in accordance with program guidelines. The result of participation in the program is the refinancing and restructure of the property's FHA insured mortgage and, generally the reduction of Section 8 rent payments and establishment of adequately funded accounts to fund required repair and rehabilitation of the property. Agency form numbers, if applicable: Operating Procedures Guide (OPG) Forms: Accommodation Agreement—Debt Assgn—TPA Post Restr (Form/Apdx C), Accommodation Agreement—Debt Forgiveness—TPA Post Restr (Form/Apdx C), Agreement of Assignment of Debt to QNP (Form/ApdxC), Allonge—Debt Assignment From QNP (Form/Apdx C), Allonge—Debt Assignment to QNP (Form/Apdx C), Assignment of Debt from QNP (Form/Apdx C), Assumption & Modification of Use Agmt (Assignment) (Form/Apdx C), Assumption and Modification of Use Agreement—Forgiveness (Form/Apdx C), OPG 11.1, OPG 3.1, OPG 3.2, OPG 3.3, OPG 3.4, OPG 4.10, OPG 4.11, OPG 4.12, OPG 4.2, OPG 4.3, OPG 4.4, OPG 4.7, OPG 4.8, OPG 5.4, OPG 5.5, OPG 7.11, OPG 7.12, OPG 7.13, OPG 7.14, OPG 7.21, OPG 7.22, OPG 7.23, OPG 7.25, OPG 7.4, OPG 7.8.

DATES: Comments Due Date: December 24, 2012.

ADDRESSES: Interested persons are invited to submit comments regarding this proposal. Comments should refer to the proposal by name and/or OMB approval Number (2502-0533) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Multifamily Housing Mortgage and Housing Assistance Restructuring Program (Mark to Market).

OMB Approval Number: 2502-0533.

Form Numbers: HUD 9625, HUD 9624.

Description of the need for the information and proposed use: The Mark to Market Program is authorized under the Multifamily Assisted Housing Reform and Affordability Act of 1997 as extended by the Market to Market Extension Act of 2001. The information collection is required and will be used to determine the eligibility of FHA insured multifamily properties for participation in the Mark to Market program and the terms on which such participation should occur as well as to process eligible properties from acceptance into the program through closing of the mortgage restructure in accordance with program guidelines. The result of participation in the program is the refinancing and restructure of the property's FHA insured mortgage and, generally the reduction of Section 8 rent payments and establishment of adequately funded accounts to fund required repair and rehabilitation of the property. Agency form numbers, if applicable: Operating Procedures Guide (OPG) Forms: Accommodation Agreement—Debt Assgn—TPA Post Restr (Form/Apdx C), Accommodation Agreement—Debt Forgiveness—TPA Post Restr (Form/Apdx C), Agreement of Assignment of Debt to QNP (Form/ApdxC), Allonge—Debt Assignment From QNP (Form/Apdx C), Allonge—Debt Assignment to QNP (Form/Apdx C), Assignment of Debt from QNP (Form/Apdx C), Assumption & Modification of Use Agmt (Assignment) (Form/Apdx C), Assumption and Modification of Use Agreement—Forgiveness (Form/Apdx C), OPG 11.1, OPG 3.1, OPG 3.2, OPG 3.3, OPG 3.4, OPG 4.10, OPG 4.11, OPG 4.12, OPG 4.2, OPG 4.3, OPG 4.4, OPG 4.7, OPG 4.8, OPG 5.4, OPG 5.5, OPG 7.11, OPG 7.12, OPG 7.13, OPG 7.14, OPG 7.21, OPG 7.22, OPG 7.23, OPG 7.25, OPG 7.4, OPG 7.8.

| Number of respondents | Annual responses | × | Hours per response | Burden hours
Reporting Burden | 1,658 | 1 |  | 1.454 | 2,412

Total estimated burden hours: 2,412.

Status: Extension without change a currently approved collection.

Authority: Section 3507 of the Paperwork Reduction Act of 1995, 44 U.S.C. 35, as amended.

Dated: November 16, 2012.
Colette Pollard,
Department Reports Management Officer, Office of the Chief Information Officer.

[FR Doc. 2012-28372 Filed 11-21-12; 8:45 am]

BILLING CODE 4210-67-P